DEPARTMENT OF THE INTERIOR

Bureau of Indian Affairs

Environmental Impact Statement for the Proposed Mississippi Band of Choctaw Casino, Jackson County, MS

AGENCY: Bureau of Indian Affairs, Interior.

ACTION: Notice of cancellation.

SUMMARY: This notice announces that the Bureau of Indian Affairs (BIA) intends to cancel all work on the environmental impact statement (EIS) for the proposed Mississippi Band of Choctaw Casino, Jackson County Mississippi.

FOR FURTHER INFORMATION CONTACT: Kurt G. Chandler, Regional Environmental Scientist, telephone (615) 564-6832.

SUPPLEMENTARY INFORMATION: The BIA is canceling work on this EIS because the Mississippi Band of Choctaw Indians have decided not to pursue Indian gaming on the property that is the subject of the EIS at this time. The notice of intent to prepare the EIS, which included a description of the proposed action, was published in the Federal Register on October 3, 2006 (71 FR 58427). On October 18, 2006, a public scoping meeting was held in Ocean Springs, Jackson County, Mississippi. The Draft EIS had not yet been published.

Dated: January 31, 2011.
George Skibine,
Deputy Assistant Secretary—Management.

[FR Doc. 2011-2822 Filed 2-8-11; 8:45 am]

BILLING CODE 4310-W7-P